FEDERAL COMMUNICATIONS COMMISSION

47 CFR Part 73

[MB Docket Nos. 14-50, 09-182, 07-294, and 04-256; FCC 14-28]

2014 Quadrennial Regulatory Review

AGENCY: Federal Communications Commission.

ACTION: Final rule; announcement of effective date.

SUMMARY: In this document, the Federal Communications Commission (Commission) announces that the Office of Management and Budget (OMB) has approved, for a period of three years, the information collection associated with the Commission's Report and Order, 2014 Quadrennial Regulatory Review, FCC 14-28. This notice is consistent with the Report and Order, which stated that the Commission would publish a document in the Federal Register announcing OMB approval and the effective date of the requirements.

DATES: 47 CFR 73.3613, published at 79 FR 28996, May 20, 2014, is effective October 28, 2014.

FOR FURTHER INFORMATION CONTACT: For additional information about the information collection, contact Cathy Williams at (202) 418-2918.

SUPPLEMENTARY INFORMATION: This document announces that, on October 17, 2014, OMB approved the information collection requirements contained in the Commission's Report and Order, FCC 14-28, published at 79 FR 28996, May 20, 2014. The OMB Control Number is 3060-0185. The Commission publishes this notice as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-0185, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on October 17, 2017, for the new information collection requirements contained in the Commission's rules at 47 CFR 73.3613.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0185.

The foregoing notice is required by the Paperwork Reduction Act of 1995, Public Law 104-13, October 1, 1995, and 44 U.S.C. 3507.

The total annual reporting burdens and costs for the respondents are as follows:

OMB Control Number: 3060-0185.

Title: Section 73.3613, Filing of Contracts.

OMB Approval Date: October 17, 2014.

OMB Expiration Date: October 31, 2017.

Form Number: N/A.

Respondents: Business or other for profit entities; Not-for-profit institutions.

Number of Respondents and Responses: 2,400 respondents and 2,400 responses.

Estimated Time per Response: 0.25 to 0.5 hours.

Frequency of Response: On occasion reporting requirement; Recordkeeping requirement; Third party disclosure requirement.

Total Annual Burden: 975 hours.

Total Annual Costs: $135,000.

Privacy Act Impact Assessment: No impact(s).

Obligation to Respond: Required to obtain or retain benefits. The statutory authority for this information collection is contained in Section 154(i) and 303 of the Communications Act of 1934, as amended.

Nature and Extent of Confidentiality: There is no need for confidentiality with this information collection.

Needs and Uses: On April 15, 2014, the Commission released a Report and Order (published at 79 FR 28996 on May 20, 2014, FCC 14-28) that adopted changes to 47 CFR 73.3613(d)(2) and the FCC's attribution rules. Specifically, certain television joint sales agreements (JSAs) are now attributable under the Commission's attribution rules. As a result, television stations will now be required to file JSAs that result in attribution under the Commission's multiple ownership rules.

Federal Communications Commission.
Marlene H. Dortch,
Secretary, Office of the Secretary, Office of Managing Director.

[FR Doc. 2014-25555 Filed 10-27-14; 8:45 am]

BILLING CODE 6712-01-P